NATIONAL SCIENCE FOUNDATION

Sunshine Act Meetings; National Science Board

The National Science Board, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: Wednesday, May 2, 2012 from 9:00 a.m. to 6:00 p.m., Thursday, May 3, 2012 from 8:00 a.m. to 3:30 p.m., and Friday, May 4, 2012 from 8:00 a.m. to 3:00 p.m.

PLACE: These meetings will be held at the National Science Foundation, 4201Wilson Blvd., Room 1235, Arlington, VA 22230. All visitors must contact the Board Office (call 703-292-7000 or send an email message to nationalsciencebrd@nsf.gov) at least 24 hours prior to the meeting and provide name and organizational affiliation. All visitors must report to the NSF visitor desk located in the lobby at the 9th and N. Stuart Streets entrance to receive a visitor's badge.

UPDATES: Please refer to the National Science Board Web site www.nsf.gov/nsb for additional information. Meeting information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

STATUS: Portions open; portions closed.

Open Sessions

May 2, 2012

9:00-11:00 a.m.

1:30-5:30 p.m.

May 3, 2012

8:00-9:30 a.m.

11:00-12:00 noon

1:00-2:00 p.m.

2:00-3:00 p.m.

May 4, 2012

9:15-10:15 a.m.

10:15-10:45 a.m.

10:45-11:45 a.m.

12:45-3:00 p.m.

Closed Sessions

May 2, 2012

11:00-12:00 noon

5:30-6:00 p.m.

May 3, 2012

9:30-11:00 a.m.

3:00-3:30 p.m.

May 4, 2012

8:00-9:00 a.m.

9:00-9:15 a.m.

MATTERS TO BE DISCUSSED:

Wednesday, May 2, 2012

CSB Subcommittee on Facilities (SCF)

Open Session: 9:00-11:00 a.m.

• Chairman's Remarks

• Approval of minutes from the February 2, 2012 meeting

• Annual Portfolio Review of Facilities

• Chairman's Closing Remarks

Closed Session: 11:00-12:00 noon

• Chairman's Remarks

• Closed continuation of Annual Portfolio Review of Facilities

• Chairman's Closing Remarks

Committee on Programs and Plans (CPP)

Open Session: 1:30-5:30 p.m.

• Approval of minutes from the February 2012 meeting

• Committee Chairman's Remarks

• Information Item: Large Synoptic Survey Telescope (LSST)

• Information Item: National High Magnetic Field Laboratory (NHMFL)

• Information Item: Renewal of Award for Management of the National Center for Atmospheric Research (NCAR)

• Information Item: Operations and Management of JOIDES Resolution Scientific Drillship

• Information Item: National Astronomy and Ionosphere Center (Arecibo) Change in Management following Recompetition

• CPP Program Portfolio Planning: Neuroscience

• Task Force on Unsolicited Mid-Scale Research: Discussion of the Draft Final Report

Closed Session: 5:30-6:00 p.m.

• Committee Chairman's Remarks

• Approval of Closed CPP Minutes for February 2012

• Information Item: Advanced Laser Interferometer Gravity Wave Observatory (LIGO)

Thursday, May 3, 2012

Committee on Strategy and Budget (CSB)

Open Session: 8:00-9:30 a.m.

• Committee Chairman's Remarks

• Approval of the February 3, 2012 Open Session minutes

• FY 2012 and 2013 Budget Updates

• Task Force on Data Policies

• Subcommittee on Facilities (SCF)

• Various Strategies of NSF Solicitations

• Options for NSB Committee Organization

• Closing Remarks

Committee on Strategy and Budget (CSB)

Closed Session: 9:30-11:00 a.m.

• Approval of the February 3, 2012 Closed Session Minutes

• Future Fiscal Year Budgetary Policies, Planning and Processes

Plenary Board

Open Session: 11:00-12:00 noon

• Presentations by Honorary Award Recipients—Dr. Scott Aaronson, Alan T. Waterman Award; Dr. Robert Wood, Alan T. Waterman Award

Subcommittee on Polar Issues (SOPI)

Open Session: 1:00-2:00 p.m.

• Chairman's Remarks and Approval of Open Session Minutes, February 2012

• Acting Director's Remarks

• Presentation—Lake El'gygytgyn: Early Results from an Unprecedented Arctic Terrestrial Climate Record

• Update on Antarctic Logistics Support

Committee on Audit and Oversight (A&O)

Open Session: 2:00-3:00 p.m.

• Approval of Minutes of the February 2, 2012 Open Session

• Committee Chairman's Opening Remarks

• Inspector General's Update

• Chief Financial Officer's Update

• Human Capital Management Update

• Merit Review Report 2011

• Committee Chairman's Closing Remarks

Committee on Audit and Oversight (A&O)

Closed Session: 3:00-3:30 p.m.

• Approval of Minutes of the February 2, 2012 Closed Session

• Committee Chair's Opening Remarks

• Procurement Activities

• Committee Chair's Closing Remarks

Friday, May 4, 2012

Plenary Board Meeting

Executive Closed Session: 8:00-9:00 a.m.

• Approval of Executive Closed Session Minutes, February 2012

• Board Member Proposals

• Election for NSB Chairman and Vice Chairman

• NSF Personnel

• Strategic Alignment of Budget and Functions

Plenary Board Meeting

Closed Session: 9:00-9:15 a.m.

• Approval of Closed Session Minutes, February 2012

• Closed Committee Reports

Committee on Education and Human Resources (CEH)

Open Session: 9:15-10:15 a.m.

• Approval of February 3, 2012 Committee Meeting Minutes and February 28, 2012 Teleconference Meeting Minutes

• Improving STEM Education: Discussion on Taking Effective Practices to Scale

Committee on Science & Engineering Indicators (SEI)

Open Session: 10:15-10:45 a.m.

• Approval of the February 3, 2012 Meeting Minutes

• Committee Chairman's Remarks

• Discussion of the two Companions to Science and Engineering Indicators 2012

• Concluding Remarks

Plenary Open

Open Session: 10:45-11:45 a.m.

• Presentations by Honorary Award Recipients—Dr. Lawrence Krauss, NSB Public Service Award (Individual); Dr. Joe Palca, NPR Science Desk, NSB Public Service Award (Group)

Plenary Open

Open Session: 12:45-3:00 p.m.

• Recognition of the Class of 2012

• Approval of Open Session Minutes, February 2012

• Chairman's Report

• Director's Report

• Open Committee Reports

Meeting Adjourns: 3:00 p.m.

Ann Bushmiller,
Senior Legal Counsel to the National Science Board.

[FR Doc. 2012-10336 Filed 4-25-12; 4:15 pm]

BILLING CODE 7555-01-P